DEPARTMENT OF AGRICULTURE

U.S. Codex Office

Codex Alimentarius Commission: Meeting of the Codex Committee on Food Hygiene

AGENCY: U.S. Codex Office, USDA.

ACTION: Notice of public meeting and request for comments.

SUMMARY: The U.S Codex Office is sponsoring a public meeting on September 26, 2019. The objective of the public meeting is to provide information and receive public comments on agenda items and draft United States (U.S.) positions to be discussed at the 51st Session of the Codex Committee on Food Hygiene (CCFH) of the Codex Alimentarius Commission, in Cleveland, Ohio, November 4-8, 2019. The U.S. Manager for Codex Alimentarius and the Under Secretary for Trade and Foreign Agricultural Affairs recognize the importance of providing interested parties the opportunity to obtain background information on the 51st Session of the CCFH and to address items on the agenda.

DATES: The public meeting is scheduled for September 26, 2019, from 1:00-4:00 p.m. EDT.

ADDRESSES: The public meeting will take place in Meeting Room 107-A of the Whitten Building, 1400 Independence Ave SW, Washington, DC 20250. Documents related to the 51st Session of the CCFH will be accessible via the internet at the following address: http://www.fao.org/fao-who-codexalimentarius/meetings/en/.

Ms. Jenny Scott, U.S. Delegate to the 51st Session of the CCFH, invites U.S. interested parties to submit their comments electronically to the following email address: jenny.scott@fda.hhs.gov.

Call-In-Number: If you wish to participate in the public meeting for the 51st Session of the CCFH by conference call, please use the call-in-number: 888-844-9904 and participant code 5126092.

Registration: Attendees may register to attend the public meeting by emailing uscodex@usda.gov by September 23, 2019. Early registration is encouraged because it will expedite entry into the building. The meeting will take place in a Federal building. Attendees should bring photo identification and plan for adequate time to pass through the security screening systems. Attendees who are not able to attend the meeting in person, but who wish to participate, may do so by phone, as discussed above.

For Further Information about the 51st Session of the CCFH, contact U.S. Delegate, Ms. Jenny Scott, Senior Advisor, Office of Food Safety, Center for Food Safety and Applied Nutrition, U.S. Food and Drug Administration, 5001 Campus Drive (HFS-300), Room 3B-014, College Park, MD 20740, Phone: +1 (240) 402-2166, Fax: +1 (301) 436-2632, jenny.scott@fda.hhs.gov.

For Further Information about the public meeting Contact: U.S. Codex Office, 1400 Independence Avenue SW, Room 4861, South Agriculture Building, Washington, DC 20250. Phone (202) 720 7760, Fax: (202) 720-3157, Email: uscodex@usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference of the Codex Committee on CCFH are:

(a) Developing basic provisions on food hygiene, applicable to all food or to specific food types;

(b) Considering and amending or endorsing provisions on food hygiene contained in Codex commodity standards and codes of practice developed by Codex commodity committees;

(c) Considering specific food hygiene problems assigned to it by the Commission;

(d) Suggesting and prioritizing areas where there is a need for microbiological risk assessment at the international level and developing questions to be addressed by the risk assessors; and

(e) Considering microbiological risk management matters in relation to food hygiene and in relation to the FAO/WHO risk assessments.

The CCFH is hosted by the United States. The United States attends the CCFH as a member country of Codex.

Issues To Be Discussed at the Public Meeting

The following items on the Agenda for the 51st Session of the CCFH will be discussed during the public meeting:

• Matters referred by the Codex Alimentarius Commission and/or other Codex Subsidiary Bodies to the Committee

• Matters arising from the Work of FAO and WHO

• Information from the World Organisation for Animal Health (OIE)

• Proposed draft code of practice on food allergen management for food business operators

○ Comments in reply to CL 2019/69-FH

• Proposed draft revision of the General Principles of Food Hygiene (CXC 1-1969) and its HACCP Annex

○ Comments in reply to CL 2019/70-FH

• Proposed draft guidance for the management of biological foodborne outbreaks

○ Comments in reply to CL 2019/71-FH

• Proposed draft guidelines for the control of Shiga toxin-producing Escherichia coli (STEC) in beef, unpasteurized milk and cheese produced from unpasteurized milk, leafy greens, and sprouts

○ Comments in reply to CL 2019/72-FH

• Discussion paper on principles for the safe use of water in food processing

• Other Business and Future Work:

○ (a) New Work/Forward Workplan (Proposals in reply to CL 2019/50-FH)

Public Meeting

At the September 26, 2019, public meeting, draft U.S. positions on the agenda items will be described and discussed, and attendees will have the opportunity to pose questions and offer comments. Written comments may be offered at the meeting or sent to Ms. Jenny Scott, U.S. Delegate for the 51st Session of the CCFH (see ADDRESSES). Written comments should state that they relate to activities of the 51st Session of the CCFH.

Additional Public Notification

Public awareness of all segments of rulemaking and policy development is important. Consequently, the U.S. Codex Office will announce this Federal Register publication on-line through the USDA web page located at: http://www.usda.gov/ codex, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington DC, on August 21,2019.
Mary Lowe,
U.S. Manager for Codex Alimentarius.

[FR Doc. 2019-18876 Filed 8-30-19; 8:45 am]

BILLING CODE P